DEPARTMENT OF COMMERCE

International Trade Administration

[A-475-818]

Certain Pasta From Italy: Preliminary Results of Antidumping Duty Administrative Review; 2013-2014

AGENCY: Enforcement and Compliance, International Trade Administration, Department of Commerce.

SUMMARY: In response to requests from interested parties, the Department of Commerce (the Department) is conducting an administrative review of the antidumping duty order on certain pasta (pasta) from Italy,¹ covering the period July 1, 2013, through June 30, 2014. The initiation of the instant review ² covered six companies, and we have partially rescinded the review with respect to two companies, as discussed below.³ Thus, this review covers four companies: The mandatory respondents, La Molisana S.p.A. (La Molisana) and Rummo S.p.A. Molino e Pastificio (the Rummo Group),⁴ and Pastificio Andalini S.p.A. (Andalini) and Delverde Industrie Alimentari S.p.A. (Delverde), which were not selected for individual examination. We preliminarily determine that La Molisana and the Rummo Group made sales of subject merchandise at less than normal value during the period of review (POR). Interested parties are invited to comment on these preliminary results.

¹ See Notice of Antidumping Duty Order and Amended Final Determination of Sales at Less Than Fair Value: Certain Pasta from Italy, 61 FR 38547 (July 24, 1996).

² See Initiation of Antidumping and Countervailing Duty Administrative Reviews, 79 FR 51548 (August 29, 2014) (Initiation Notice).

³ See Certain Pasta from Italy: Notice of Partial Rescission of Antidumping Duty Administrative Review, 80 FR 4541 (January 28, 2015) (Partial Rescission).

⁴ The Rummo Group consists of Rummo S.p.A., Lenta Lavorazione, Pasta Castiglioni, and Rummo S.p.A. Molino e Pastificio. In this review, we found that the facts have not changed with respect to Rummo and its affiliates and therefore, we followed the same methodology as we did in the most recent completed review (AR 17) by collapsing the affiliated companies as the Rummo Group. See Certain Pasta From Italy: Notice of Final Results of 17th Antidumping Duty Administrative Review; 2012-2013, 80 FR 8604 (February 18, 2015) (AR 17 Final Results).

DATES: Effective date: August 7, 2015.

FOR FURTHER INFORMATION CONTACT: Joy Zhang or George McMahon, AD/CVD Operations, Office III, Enforcement and Compliance, International Trade Administration, U.S. Department of Commerce, 14th Street and Constitution Avenue NW., Washington, DC 20230; telephone: (202) 482-1168 or (202) 482-1167, respectively.

Scope of the Order

Imports covered by the order are shipments of certain non-egg dry pasta. The merchandise subject to review is currently classifiable under items 1901.90.90.95 and 1902.19.20 of the Harmonized Tariff Schedule of the United States (HTSUS). Although the HTSUS subheadings are provided for convenience and customs purposes, the written description of the merchandise subject to the order is dispositive.⁵

⁵ For a full description of the scope of the order, see the “Decision Memorandum for the Preliminary Results of Antidumping Duty Administrative Review and Partial Rescission: Certain Pasta from Italy; 2013-2014” from Christian Marsh, Deputy Assistant Secretary for Antidumping and Countervailing Duty Operations, to Paul Piquado, Assistant Secretary for Enforcement and Compliance, dated concurrently with this notice (Preliminary Decision Memorandum).

Partial Rescission of the 2013-2014 Administrative Review

On October 10, 2014, and November 25, 2014, respectively, Dalla Costa Alimentare srl (Dalla Costa) and Pasta Lensi S.r.l. (Pasta Lensi) timely withdrew their requests for an administrative review.⁶ In accordance with 19 CFR 351.213(d)(1),⁷ and consistent with our practice,⁸ we rescinded this review, in part, with respect to Dalla Costa and Pasta Lensi.⁹

⁶ See Letter from Dalla Costa to the Department, “Antidumping Duty Administrative Review of Certain Pasta from Italy: Withdrawal of Review Request for Administrative Review of Dalla Costa Alimentare SRL,” dated October 10, 2014; Letter from Pasta Lensi to the Department, “Pasta from Italy: Withdrawal of Request for Administrative Review,” dated November 25, 2014.

⁷ Under 19 CFR 351.213(d)(1), the Department will rescind an administrative review “if a party that requested the review withdraws the request within 90 days of the date of publication of notice of initiation of the requested review.” The instant review was initiated on August 29, 2014. Therefore, the deadline to withdraw review requests was November 27, 2014. Thus, the Dalla Costa and Pasta Lensi withdrawal requests are timely.

⁸ See, e.g., Brass Sheet and Strip from Germany: Notice of Rescission of Antidumping Duty Administrative Review, 73 FR 49170 (August 20, 2008); see also Certain Lined Paper Products from India: Notice of Partial Rescission of Antidumping Duty Administrative Review and Extension of Time Limit for the Preliminary Results of Antidumping Duty Administrative Review, 74 FR 21781 (May 11, 2009).

⁹ See Partial Rescission.

SUPPLEMENTARY INFORMATION:

Methodology

The Department conducted this review in accordance with section 751(a)(2) of the Tariff Act of 1930, as amended (the Act). Constructed export price or export price is calculated in accordance with section 772 of the Act. Normal value is calculated in accordance with section 773 of the Act. For a full description of the methodology underlying our preliminary results, see Preliminary Decision Memorandum dated concurrently with this notice and hereby adopted by this notice. The Preliminary Decision Memorandum is a public document and is on file electronically via Enforcement and Compliance's Antidumping and Countervailing Duty Centralized Electronic Service System (ACCESS). ACCESS is available to registered users at http://access.trade.gov and is available to all parties in the Central Records Unit, room B8024 of the main Department of Commerce building. In addition, a complete version of the Preliminary Decision Memorandum can be accessed directly on the Internet at http://enforcement.trade.gov/frn/index.html. The signed Preliminary Decision Memorandum and the electronic version of the Preliminary Decision Memorandum are identical in content.

Preliminary Results of the Review

As a result of this review, we preliminarily determine the following weighted-average dumping margins¹⁰ for the period July 1, 2013, through June 30, 2014:

¹⁰ The rate applied to the non-selected companies is a weighted-average percentage margin calculated based on the publicly-ranged U.S. volumes of the two reviewed companies with an affirmative dumping margin, for the period July 1, 2013, through June 30, 2014. See Memorandum to the File, titled, “Certain Pasta from Italy: Margin for Respondents Not Selected for Individual Examination,” from Joy Zhang and George McMahon, Case Analysts, through Eric B. Greynolds, Program Manager, dated concurrently with this notice.

Producer and/or exporter | Weighted- average dumping margin (percent)
La Molisana S.p.A. (La Molisana) | 12.90
Rummo S.p.A., Lenta Lavorazione, Pasta Castiglioni, and Rummo S.p.A. Molino e Pastificio (collectively, the Rummo Group) | 1.18
Pastificio Andalini S.p.A. (Andalini) | 8.91
Delverde Industrie Alimentari S.p.A. (Delverde) | 8.91

Assessment Rate

Upon issuance of the final results, the Department shall determine, and U.S. Customs and Border Protection (CBP) shall assess, antidumping duties on all appropriate entries covered by this review. If the weighted-average dumping margin for La Molisana or the Rummo Group is not zero or de minimis (i.e., less than 0.5 percent), we will calculate importer-specific ad valorem antidumping duty assessment rates based on the ratio of the total amount of dumping calculated for the importer's examined sales to the total entered value of those same sales in accordance with 19 CFR 351.212(b)(1). We will instruct CBP to assess antidumping duties on all appropriate entries covered by this review when the importer-specific assessment rate calculated in the final results of this review is not zero or de minimis. Where either the respondent's weighted-average dumping margin is zero or de minimis, or an importer-specific assessment rate is zero or de minimis, we will instruct CBP to liquidate the appropriate entries without regard to antidumping duties. The final results of this review shall be the basis for the assessment of antidumping duties on entries of merchandise covered by the final results of this review where applicable.

In accordance with the Department's “automatic assessment” practice, for entries of subject merchandise during the POR produced by each respondent for which they did not know that their merchandise was destined for the United States, we will instruct CBP to liquidate unreviewed entries at the all-others rate if there is no rate for the intermediate company(ies) involved in the transaction. For a full discussion of this clarification, see Antidumping and Countervailing Duty Proceedings: Assessment of Antidumping Duties, 68 FR 23954 (May 6, 2003).

We intend to issue instructions to CBP 15 days after publication of the final results of this review.

Cash Deposit Requirements

The following cash deposit requirements will be effective upon publication of the notice of final results of administrative review for all shipments of subject merchandise entered, or withdrawn from warehouse, for consumption on or after the publication of the final results of this administrative review, as provided by section 751(a)(2) of the Act: (1) The cash deposit rate for respondents noted above will be the rate established in the final results of this administrative review; (2) for merchandise exported by manufacturers or exporters not covered in this administrative review but covered in a prior segment of the proceeding, the cash deposit rate will continue to be the company-specific rate published for the most recently completed segment of this proceeding; (3) if the exporter is not a firm covered in this review, a prior review, or the original investigation, but the manufacturer is, the cash deposit rate will be the rate established for the most recently completed segment of this proceeding for the manufacturer of the subject merchandise; and (4) the cash deposit rate for all other manufacturers or exporters will continue to be 15.45 percent, the all-others rate established in the antidumping investigation as modified by the section 129 determination.¹¹ These cash deposit requirements, when imposed, shall remain in effect until further notice.

¹¹ See Implementation of the Findings of the WTO Panel in US—Zeroing (EC): Notice of Determinations Under Section 129 of the Uruguay Round Agreements Act and Revocations and Partial Revocations of Certain Antidumping Duty Orders, 72 FR 25261 (May 4, 2007).

Disclosure and Public Comment

The Department will disclose to parties to this proceeding the calculations performed in reaching the preliminary results within five days of the date of publication of these preliminary results.¹² Pursuant to 19 CFR 351.309(c), interested parties may submit cases briefs not later than 30 days after the date of publication of this notice. Rebuttal briefs, limited to issues raised in the case briefs, may be filed not later than five days after the date for filing case briefs.¹³ Parties who submit comments are requested to submit: (1) A statement of the issue; (2) a brief summary of the argument; and (3) a table of authorities. All briefs must be filed electronically using ACCESS. An electronically filed document must be received successfully in its entirety by the Department's electronic records system, ACCESS.

¹² See 19 CFR 351.224(b).

¹³ See 19 CFR 351.309(d).

Interested parties who wish to request a hearing must submit a written request to the Assistant Secretary for Enforcement and Compliance, U.S. Department of Commerce, using Enforcement and Compliance's ACCESS system within 30 days of publication of this notice.¹⁴ Requests should contain the party's name, address, and telephone number, the number of participants, and a list of the issues to be discussed. If a request for a hearing is made, we will inform parties of the scheduled date for the hearing which will be held at the U.S. Department of Commerce, 14th Street and Constitution Avenue NW., Washington, DC 20230, at a time and location to be determined.¹⁵ Parties should confirm by telephone the date, time, and location of the hearing.

¹⁴ See 19 CFR 351.310(c).

¹⁵ See 19 CFR 351.310.

Unless the deadline is extended pursuant to section 751(a)(2)(B)(iv) of the Act, the Department will issue the final results of this administrative review, including the results of our analysis of the issues raised by the parties in their case briefs, within 120 days after issuance of these preliminary results.

Notification to Importers

This notice serves as a preliminary reminder to importers of their responsibility under 19 CFR 351.402(f)(2) to file a certificate regarding the reimbursement of antidumping duties prior to liquidation of the relevant entries during this review period. Failure to comply with this requirement could result in the Secretary's presumption that reimbursement of antidumping duties occurred and increase the subsequent assessment of the antidumping duties by the amount of antidumping duties reimbursed.

These preliminary results of review are issued and published in accordance with sections 751(a)(1) and 777(i)(1) of the Act.

Dated: July 31, 2015.
Ronald K. Lorentzen,
Acting Assistant Secretary for Enforcement and Compliance.

Appendix—List of Topics Discussed in the Preliminary Decision Memorandum

1. Summary

2. Background

3. Scope of the Order

4. Discussion of Methodology

Date of Sale

Comparisons to Normal Value

Product Comparisons

Determination of Comparison Method

Results of the Differential Pricing (DP) Analysis

Export Price

Constructed Export Price

Normal Value

A. Home Market Viability

B. Level of Trade

C. Cost of Production

D. Calculation of Cost of Production

E. Test of Home Market Prices

F. Results of the COP Test

Margins for Companies Not Selected for Individual Examination

Currency Conversion

5. Recommendation

[FR Doc. 2015-19481 Filed 8-6-15; 8:45 am]

BILLING CODE 3510-DS-P